DEPARTMENT OF ENERGY

Federal Energy Regulatory Commission

Combined Notice of Filings

October 15, 2009.

Take notice that the Commission has received the following Natural Gas Pipeline Rate and Refund Report filings:

Docket Numbers: RP10-37-000.

Applicants: Guardian Pipeline, L.L.C.

Description: Guardian Pipeline, LLC submit Fourth Revised Sheet No 9A et al. to its FERC Gas Tariff, Original Volume No 1.

Filed Date: 10/09/2009.

Accession Number: 20091013-0034.

Comment Date: 5 p.m. Eastern Time on Wednesday, October 21, 2009.

Docket Numbers: RP10-38-000.

Applicants: Rockies Express Pipeline LLC.

Description: Rockies Express Pipeline LLC submits Eighth Revised Sheet No 8A et al. to its FERC Gas Tariff, Second Revised Volume No 1.

Filed Date: 10/09/2009.

Accession Number: 20091013-0033.

Comment Date: 5 p.m. Eastern Time on Wednesday, October 21, 2009.

Docket Numbers: RP10-38-001.

Applicants: Rockies Express Pipeline LLC.

Description: Rockies Express Pipeline, LLC submits Third Revised Sheet 7B et al. to FERC Gas Tariff, Second Revised Volume 1 to be effective 10/14/09.

Filed Date: 10/14/2009.

Accession Number: 20091014-0097.

Comment Date: 5 p.m. Eastern Time on Wednesday, October 21, 2009.

Docket Numbers: RP10-39-000.

Applicants: ANR Pipeline Company.

Description: ANR Pipeline Company submits amendment to Rate Schedule FSS negotiated rate agreement between ANR and BP Canada Energy Marketing Corp.

Filed Date: 10/09/2009.

Accession Number: 20091014-0075.

Comment Date: 5 p.m. Eastern Time on Wednesday, October 21, 2009.

Docket Numbers: RP10-40-000.

Applicants: Southern Natural Gas Company.

Description: Southern Natural Gas Company submits revised Pro Forma Exhibit B to the Maser firm Transportation Service Agreement under Rate Schedule FT between Southern and Atlanta Gas Light Company.

Filed Date: 10/13/2009.

Accession Number: 20091014-0074.

Comment Date: 5 p.m. Eastern Time on Monday, October 26, 2009.

Docket Numbers: RP10-41-000.

Applicants: Guardian Pipeline, L.L.C.

Description: Guardian Pipeline, LLC submits Fifth Revised Sheet No 7 to FERC Gas Tariff, Original Volume No 1.

Filed Date: 10/13/2009.

Accession Number: 20091014-0069.

Comment Date: 5 p.m. Eastern Time on Monday, October 26, 2009.

Docket Numbers: RP10-42-000.

Applicants: Guardian Pipeline, L.L.C.

Description: Guardian Pipeline's, LLC submits Third Revised Sheet No 8 to its FERC Gas Tariff, Original Volume 1 to be effective 11/1/09.

Filed Date: 10/13/2009.

Accession Number: 20091014-0070.

Comment Date: 5 p.m. Eastern Time on Monday, October 26, 2009.

Docket Numbers: RP10-43-000.

Applicants: Midwestern Gas Transmission Company.

Description: Midwestern Gas Transmission Company submits Twelfth Revised Sheet 7 et al. to its FERC Gas Tariff, Third Revised Volume 1 to be effective 12/1/09.

Filed Date: 10/13/2009.

Accession Number: 20091014-0071.

Comment Date: 5 p.m. Eastern Time on Monday, October 26, 2009.

Docket Numbers: RP10-44-000.

Applicants: Gulf States Transmission Corporation.

Description: Gulf States Transmission Corporation submits Sixth Revised Sheet 5 and Fourth Revised Sheet 6 to its FERC Gas Tariff, Original Volume to be effective 11/1/09.

Filed Date: 10/13/2009.

Accession Number: 20091014-0072.

Comment Date: 5 p.m. Eastern Time on Monday, October 26, 2009.

Docket Numbers: RP10-45-000.

Applicants: North Baja Pipeline, LLC.

Description: North Baja Pipeline, LLC submits non—conforming, negotiated rate, firm transportation service agreement with Gazprom Marketing & Trading USA, Inc.

Filed Date: 10/13/2009.

Accession Number: 20091014-0073.

Comment Date: 5 p.m. Eastern Time on Monday, October 26, 2009.

Docket Numbers: RP10-47-000.

Applicants: Gulf South Pipeline Company, LP.

Description: Gulf South Pipeline Company, LP submits capacity release agreement.

Filed Date: 10/13/2009.

Accession Number: 20091014-0096.

Comment Date: 5 p.m. Eastern Time on Monday, October 26, 2009.

Docket Numbers: RP10-48-000.

Applicants: Southern Natural Gas Company.

Description: Southern Natural Gas Company submits Final True Up Filing for its Maintenance Capital Surcharge.

Filed Date: 10/14/2009.

Accession Number: 20091014-0098.

Comment Date: 5 p.m. Eastern Time on Monday, October 26, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-26618 Filed 11-4-09; 8:45 am]

BILLING CODE 6717-01-P